DEPARTMENT OF ENERGY

Office of Energy Efficiency and Renewable Energy

Notice for EV Everywhere Logo Design Competition

AGENCY: Office of Energy Efficiency and Renewable Energy, Department of Energy.

ACTION: Notice.

SUMMARY: The Department of Energy (DOE) gives notice of the availability of the EV Everywhere Logo Design Competition, to encourage artists and designers to create a graphic representation of the DOE's efforts to increase the use of plug-in electric vehicles. The Logo Contest includes a $5,000 cash prize.

DATES: The submission period for entries begins at August 13, 2015 and must be received electronically by September 25, 2015 by 11:59 p.m. EST. The winning contestant will be announced October 26, 2015. All dates are subject to change. The winning contestant will be notified in advance of the public announcement.

ADDRESSES: Interested persons can find full details about the competition rules and register to participate online at https://www.challenge.gov/challenge/ev-everywhere-logo-contest/. See SUPPLEMENTARY INFORMATION section for further information.

FOR FURTHER INFORMATION CONTACT:

• Email: ev-everywhere@ee.doe.gov.

• Mail: Robert Graham, EV Everywhere Director, Office of Energy Efficiency and Renewable Energy, U.S. Department of Energy, 1000 Independence Ave. SW., Washington, DC 20585, 202-586-3801.

SUPPLEMENTARY INFORMATION:

Competition Details

(1) Subject of Competition: The Department of Energy (DOE) is seeking a new design to be used as the official logo of EV Everywhere. EV Everywhere is the umbrella activity for DOE efforts to increase the use of plug-in electric vehicles (PEVs). Its mission is to raise awareness of the benefits of PEVs, help individuals realize that PEVs are a viable option for them, and position DOE as the definitive resource for unbiased, objective information about PEVs.

EV Everywhere supports DOE's larger goal of reducing the use of petroleum in transportation to increase energy and environmental security. In addition to public outreach and education, it also includes efforts to reduce the cost and improve the convenience of PEVs through research and development as well as increase community readiness for the use of PEVs.

(2) Dates: The submission period for entries must be submitted in accordance with the deadline identified in the DATES section.

(3) Eligibility Rules for Participating in the Competition: To be eligible to win a prize under this Logo Design Competition, you—

(a) Must register to participate in the competition under the link designated for that purpose by DOE on https://www.challenge.gov;

(b) Must comply with all the requirements under this notice and the America COMPETES Reauthorization Act of 2010 (Pub. L. 111-358);

(c) In the case of an individual, whether participating singly or in a group, must be a citizen or permanent resident of the United States before the submission period ends;

(d) In the case of a private entity shall be incorporated in and maintain a principal place of business in the United States;

(e) May not be a Federal employee acting within the scope of your employment;

(f) May not be an entity with an outstanding, unresolved financial obligation to, or that is currently suspended or debarred by, the federal government; and

(g) If chosen as the winner of the prize, provide to DOE the necessary personal or business information to allow DOE to award the cash prize.

If you are under 18 years of age, you must have the permission of a parent or legal guardian to participate. If you are a Federal grantee, you may not use Federal funds to develop applications for this competition unless such use is consistent with the purpose of your grant award. If you are a Federal contractor, you may not use Federal funds from a contract to develop or fund efforts in support of applications for this competition. You may use Federal facilities or consult with Federal employees during the competition if the facilities and employees are made available to all contestants participating in the competition on an equitable basis.

(4) Registration Process for Contestants: Design competition contestants must submit their “EV Everywhere” Logo designs online as a vector-based image in an .ai, .eps, or PDF file using the link designated for that purpose on https://www.challenge.gov. Contestants can find the link on https://challenge.gov, either by filtering search criteria to “Department of Energy” or going to https://www.vehicles.energy.gov, where the link will be posted. DOE will accept logo design competition submissions only through https://www.challenge.gov.

Things to keep in mind as you design your “EV Everywhere” Logo:

(a) The logo should translate the core elements of the EV Everywhere brand, including the benefits of PEVs, the viability of PEVs for the average driver, and EV Everywhere as the source for objective, data-driven, reliable information on PEVs. DOE's Alternative Fuels Data Center describes the basic technology of PEVs and PEVs' major benefits;

(b) In addition, the logo can evoke through imagery ideas of: Electricity, the “fun” factor of PEVs, PEVs' cost savings, environmental sustainability, and energy security;

(c) The use of the words “EV Everywhere” is recommended, but not required;

(d) The use of the words “U.S. Department of Energy” is required;

(e) The logo should use the following colors alone or in combination:

a. As primary, dark blue (Pantone 7484; CMYK C45 M27 Y17 K51; RGB R94 G106 B113; HEX 5E6A71) and/or dark green (Pantone 356; CMYK C95 M8 Y93 K27; RGB R0 G121 B52; HEX 007934)

b. As highlights, light blue (Pantone 2995; CMYK C87 M1 Y0 K0; RGB R0 G169 B224; HEX 1F82BB), light green (Pantone 368; CMYK C63 M0 Y97 K0; RGB R105 G190 B40; HEX 69BE28), yellow (Pantone 116; CMYK C0 M12 Y100 K0; RGB R254 G203 B0; HEX FECB00), red (Pantone 158; CMYK C0 M64 Y95 K0; RGB R227 G114 B34; HEX E37222), and light gray (Pantone 428; CMYK C12 M6 Y5 K12; RGB R195 G200 B200; HEX C3C8C8);

(f) If the logo includes text, the text should be in Gotham font, or if not available, Calibri;

(g) The logo should be unique enough that it could be easily recognized by the general public in the future;

(h) Because it will be used on a vehicle magnetic logo the size of a small bumper sticker, the logo needs to be readable and/or understandable from the back of a moving vehicle.

(i) The logo should not focus solely on light-duty PEVs; and

(j) The logo should not conflict or be too similar to existing DOE/EERE logos (available on the EERE Communications Standards Web site) or use elements of the DOE or any other federal agency's logo.

When uploading your “EV Everywhere” Logo design, in the “Submission Text” field, please include a brief description about your logo entry and thought process behind the design, including any personal experience the designer has with PEVs.

(5) Prize for Winner: The winning contestant will be awarded a $5,000 prize and the design will become the official logo for the EV Everywhere activities, the magnetic decals, the program's Web site and any official DOE purpose.

(6) Selection of Winner: DOE will select a judging panel that will consist of DOE officials, EV industry leaders, and other communications experts. Judges will be fair and impartial. A judge may not have personal or financial interests in, or be an employee, officer, director, or agent of any contestant or have a familial or financial relationship with a contestant.

Judges will use the following weighted criteria to judge the submitted designs:

(a) Effectiveness of communicating the EV Everywhere mission and brand (500/1000 points). This includes the idea of plug-in electric vehicles, their benefits, their viability for the average driver, and the DOE as a source of unbiased, data-driven information. This may be done through a realistic or abstract design;

(b) Creativity and originality (300/1000 points). Is the visual quality of the design at once informative and representative of imagery connected to EV Everywhere; and

(c) Design can be easily replicated, especially as a magnetic decal (200/1000 points). Can this design be replicated successfully, without excessive cost, for many media formats.

The judging panel will evaluate the submissions and choose the final winning design from all submissions. In the event that no entries fully meet the above criteria to the panel's satisfaction, the Department of Energy is under no obligation to select a winner. All decisions by DOE are final and binding with respect to the contest. For questions or further information, please see the contact information listed in the DATES section above.

(7) Applicable Law: This design competition is being conducted by DOE pursuant to the America COMPETES Reauthorization Act requirements at 15 U.S.C. 3719 and is subject to all applicable federal laws and regulations. By participating in this design competition, each contestant gives its full and unconditional agreement to these Official Rules. A contestant's eligibility for a prize award is contingent upon their fulfilling all requirements identified in this notice. Publication of this notice is not an obligation of funds on the part of DOE. DOE reserves the right to cancel, suspend, and/or modify this contest, in whole or in part, at any time prior to the award of prizes.

(8) Resolution of Disputes: The Department of Energy is solely responsible for administrative decisions, which are final and binding in all matters related to the contest. In the event of a dispute as to any registration, the authorized account holder of the email address used to register will be deemed to be the contestant. The “authorized account holder” is the natural person or legal entity assigned an email address by an Internet access provider, online service provider or other organization responsible for assigning email addresses for the domain associated with the submitted address. Contestants and potential winner may be required to show proof of being the authorized account holder.

(9) Intellectual Property Rights:

(a) By submitting a design to this competition, you represent and warrant that you are the sole author and copyright owner of the submitted design; that the submission is your original work, and as the contestant, you have sufficient rights to use and authorize others, including DOE, to use the submission, as specified throughout the Official Rules, that the submission does not violate or infringe upon the copyright or upon any other third party rights of other parties, including but not limited to privacy, publicity, or intellectual property rights, or material that constitutes copyright or license infringement. Your design may not contain any material that is inappropriate, indecent, obscene, hateful, defamatory, or in any way disparaging. Your design cannot have been submitted previously in another promotion or contest of any kind.

(b) You understand and agree that if your entry is selected as the winning design, it may be modified or altered by DOE, in its sole discretion, as deemed appropriate or necessary to execute, produce, or distribute the winning design in its final logo format.

(c) The winning contestant will, in consideration of the prize to be awarded, grant to DOE an irrevocable, royalty-free, exclusive worldwide license to reproduce, distribute, copy, display, create derivative works, and publicly post, link to, and share, the winning design or parts thereof, for the purpose of the design competition and for any official EV Everywhere or DOE purpose.

(10) Publicity Rights: Upon registration, each contestant consents to DOE's and its agents' use, in perpetuity, of its name, likeness, photograph, voice, opinions, and/or hometown and state information for promotional or informational purposes through any form of media, worldwide, without payment or consideration.

(11) Liability and Insurance Requirements:

(a) Any and all information provided by or obtained from the Federal Government is without any warranty or representation whatsoever, including but not limited to its suitability for any particular purpose.

(b) Upon registration, each contestant agrees to assume any and all risks of injury or loss in connection with or in any way arising from participation in this contest. Upon registration, except in the case of willful misconduct, all contestants agree to and, thereby, do waive and release any and all claims or causes of action against the Federal Government and its officers, employees and agents for any and all injury and damage of any nature whatsoever (whether existing or thereafter arising, whether direct, indirect, or consequential and whether foreseeable or not), arising from their participation in the contest, whether the claim or cause of action arises under contract or tort.

(c) Upon registration, you agree to and, thereby, shall indemnify and hold harmless the Federal government and its officers, employees and agents for any and all injury and damage of any nature whatsoever (whether existing or thereafter arising, whether direct, indirect, or consequential and whether foreseeable or not), arising from or related to competition activities.

(d) Contestants are required to demonstrate financial responsibility by certifying that they have $500 to cover claims in the amount of $500 or less, made by: (A) A third party for death, bodily injury, or property damage, or loss resulting from an activity carried out in connection with participation in the Logo competition; and (B) the Federal Government for damage or loss to Government property resulting from such an activity.

(12) Record Retention and FOIA: All materials submitted to DOE as part of a submission become DOE records and cannot be returned. Any confidential commercial information contained in a submission should be designated at the time of submission. Submitters will be notified of any Freedom of Information Act requests for their submissions in accordance with 29 CFR 70.26.

Issued in Washington, DC, on August 13, 2015.
David Danielson,
Assistant Secretary for Energy Efficiency, Energy Efficiency and Renewable Energy.

[FR Doc. 2015-20475 Filed 8-19-15; 8:45 am]

BILLING CODE 6450-01-P